ENVIRONMENTAL PROTECTION AGENCY

[ER-FRL-9060-3]

Environmental Impact Statements; Notice of Availability

Responsible Agency: Office of Federal Activities, General Information 202-564-5632 or https://www.epa.gov/nepa.

Weekly receipt of Environmental Impact Statements (EIS)

Filed January 3, 2022 10 a.m. EST Through January 10, 2022 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220004, Final, APHIS, OR, ADOPTION—Final Bighorn Sheep Management Plan Environmental Impact Statement, Contact: Kevin Christensen 503-820-2751.

The U.S. Department of Agriculture's Animal and Plant Health Inspection Service (APHIS) has adopted the U.S. Fish and Wildlife Service (USFWS) Final EIS No. 20210178, filed 11/23/2021 with the Environmental Protection Agency. The APHIS was a cooperating agency on this project. Therefore, republication of the document is not necessary under Section 1506.3(b)(2) of the CEQ regulations.

EIS No. 20220005, Draft, DOE, NAT, Proposed Energy Conservation Standards for Manufactured Housing, Comment Period Ends: 02/28/2022, Contact: Roak Parker 240-562-1645.

EIS No. 20220007, Final, USACE, LA, Upper Barataria Basin Louisiana Study, Review Period Ends: 02/14/2022, Contact: Patricia Naquin 504-862-1544.

Dated: January 12, 2022.
Cindy S. Barger,
Director, NEPA Compliance Division, Office of Federal Activities.

[FR Doc. 2022-00798 Filed 1-13-22; 8:45 am]

BILLING CODE 6560-50-P